DEPARTMENT OF COMMERCE

National Oceanic and Atmospheric Administration

[RTID 0648-XD928]

Marine Mammals; File No. 27597

AGENCY: National Marine Fisheries Service (NMFS), National Oceanic and Atmospheric Administration (NOAA), Commerce.

ACTION: Notice; receipt of application.

SUMMARY: Notice is hereby given that the NOAA Alaska Fisheries Science Center's Marine Mammal Laboratory (MML), 7600 Sand Point Way NE, Seattle, WA 98115 (Responsible Party: John Bengston, Ph.D.) has applied in due form for a permit to conduct research on Steller sea lions (Eumetopias jubatus).

DATES: Written comments must be received on or before June 3, 2024.

ADDRESSES: The application and related documents are available for review by selecting “Records Open for Public Comment” from the “Features” box on the Applications and Permits for Protected Species home page, https://apps.nmfs.noaa.gov, and then selecting the File No. 27597 from the list of available applications. These documents are also available upon written request via email to NMFS.Pr1Comments@noaa.gov.

Written comments on this application should be submitted via email to NMFS.Pr1Comments@noaa.gov. Please include the File No. in the subject line of the email comment.

Those individuals requesting a public hearing should submit a written request via email to NMFS.Pr1Comments@noaa.gov. The request should set forth the specific reasons why a hearing on this application would be appropriate.

FOR FURTHER INFORMATION CONTACT: Sara Young or Courtney Smith, Ph.D., at (301) 427-8401.

SUPPLEMENTARY INFORMATION: The subject permits are requested under the authority of the Marine Mammal Protection Act of 1972, as amended (MMPA; 16 U.S.C. 1361 et seq.) and the regulations governing the taking and importing of marine mammals (50 CFR part 216).

MML proposes to conduct research to measure population status, vital rates, foraging ecology, habitat requirements, and effects of natural and anthropogenic factors impacting the eastern distinct population segment (eDPS) of Steller sea lion populations pursuant to fulfilling the NMFS legal requirements under the MMPA, and to test hypotheses of mechanisms underlying population trends. Proposed activities include surveys (aerial, vessel, and land) including use of unmanned aircraft systems (UAS), capture and handling, marking, hot branding, sampling (including but not limited to blood, blubber, swabs of all mucus membranes and lesions, skin samples, vibrissae, and hair), tagging, and unintentional disturbance. Animals may be disturbed by surveys, captured, sampled and released for vital rates, foraging ecology and/or health studies multiple times per year. MML requests four unintentional mortalities from the eDPS of Steller sea lions annually, not to exceed eight over the duration of the permit. Non-target species that may be disturbed unintentionally during these studies include northern elephant seals (Mirounga angustirostris), harbor seals (Phoca vitulina), and California sea lions (Zalophus californianus). Collected biological samples may be exported for analysis. See the application for complete numbers of animals requested by species and procedure. The requested duration of this permit is 5 years.

In compliance with the National Environmental Policy Act of 1969 (42 U.S.C. 4321 et seq.), an initial determination has been made that the activities proposed are consistent with the Preferred Alternative in the Final Programmatic Environmental Impact Statement for Steller Sea Lion and Northern Fur Seal Research (NMFS 2007) and a supplemental environmental assessment (NMFS 2014) prepared for the addition of unmanned aerial surveys to the suite of Steller sea lion research activities analyzed under the EIS that concluded that issuance of the permits would not have a significant adverse impact on the human environment. An environmental review memo is being prepared to summarize these findings.

Concurrent with the publication of this notice in the Federal Register, NMFS is forwarding copies of the application to the Marine Mammal Commission and its Committee of Scientific Advisors.

Dated: April 29, 2024.
Julia M. Harrison,
Chief, Permits and Conservation Division, Office of Protected Resources, National Marine Fisheries Service.

[FR Doc. 2024-09615 Filed 5-2-24; 8:45 am]

BILLING CODE 3510-22-P